NUCLEAR REGULATORY COMMISSION

[Docket No. 030-36619; EA-14-080; NRC-2016-0125]

In the Matter of CampCo, Inc.

AGENCY: Nuclear Regulatory Commission.

ACTION: Confirmatory order; issuance.

SUMMARY: The U.S. Nuclear Regulatory Commission (NRC) is issuing a confirmatory order (Order) to CampCo, Inc. (CampCo), to memorialize the agreements reached during an alternative dispute resolution mediation session held on March 22, 2016. This Order will resolve the issues that were identified during an NRC investigation and records inspection related to CampCo's import and distribution of watches containing radioactive material. This Order is effective upon its issuance.

DATES: Effective Date: The confirmatory order became effective on June 20, 2016.

ADDRESSES: Please refer to Docket ID NRC-2016-0125 when contacting the NRC about the availability of information regarding this document. You may obtain publicly-available information related to this document using any of the following methods:

• Federal Rulemaking Web site: Go to http://www.regulations.gov and search for Docket ID NRC-2016-0125. Address questions about NRC dockets to Carol Gallagher; telephone: 301-415-3463; email: Carol.Gallagher@nrc.gov. For questions about this Order, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Susanne Woods, Office of Enforcement, U.S. Nuclear Regulatory Commission, Washington, DC 20555-001; telephone: 301-415-2740, email: S.Woods@nrc.gov.

SUPPLEMENTARY INFORMATION: The text of the Order is attached.

Dated at Rockville, Maryland, this 20th day of June 2016.
For the Nuclear Regulatory Commission.
Patricia K. Holahan,
Director, Office of Enforcement.

UNITED STATES OF AMERICA, NUCLEAR REGULATORY COMMISSION

In the Matter of CampCo, Inc., Los Angeles, California

Docket No. 030-36619

License No. 04-23910-01E

EA-14-080

Confirmatory Order Modifying License

I

CampCo, Inc., (CampCo or Licensee) is the holder of Materials License No. 04-23910-01E issued on October 2, 2014, by the U.S. Nuclear Regulatory Commission (NRC) pursuant to Part 30 of title 10 of the Code of Federal Regulations (10 CFR). The license authorizes CampCo to distribute watches containing byproduct material (tritium, hydrogen-3) to persons exempt from the regulations. The facility is located on the Licensee's site in Los Angeles, California.

This Confirmatory Order is the result of an agreement reached during an alternative dispute resolution (ADR) mediation session conducted on March 22, 2016.

II

The NRC Office of Investigations (OI) conducted investigations in 2013 and 2014 (OI case number report 3-2013-021 and the supplemental report) related to apparent violations by CampCo regarding the distribution of watches containing byproduct material (hydrogen-3) without the required licensing authorization.

On July 7, 2015, the NRC issued a letter to CampCo that detailed the results of the investigation and outlined four apparent violations. The apparent violations involved:

(1) Distributing watches containing tritium (hydrogen-3) without (a) obtaining NRC approval of an amendment for the CampCo's existing license, or (b) obtaining a separate exempt distribution license for these watches, prior to transferring the watches containing byproduct material to unlicensed persons; (2) failing to submit timely required annual reports to the NRC, as required by 10 CFR 32.16(c)(1); (3) failing to provide required information in the annual reports, when the reports were provided upon NRC request; and (4) failing to provide certificates, required by the CampCo license, with each lot distributed.

The failure to either comply with license requirements or obtain a license for the distribution of these watches prior to distributing these products is significant because it resulted in the NRC not being able to conduct its regulatory responsibilities to ensure that the products were safe for distribution to members of the general public. The requirements in 10 CFR 30.3(a) provide reasonable assurance that the transfers and the products intended for use by persons exempt from the regulations meet the applicable requirements. The failure to submit complete and timely required annual reports is significant because it inhibits the process of regulatory oversight. The information in these reports is necessary for the NRC to evaluate potential doses to the public and impact to the environment from the collective dose due to multiple sources. The failure to ensure that each lot of tritium timepieces received is accompanied by the required certificates is significant because these certificates are necessary to ensure and document that the watches distributed were manufactured properly and meet the regulatory requirements for distribution to persons exempt from the regulations.

In the July 7, 2015, letter, the NRC offered CampCo the choice to: (1) Request a Pre-decisional Enforcement Conference (PEC); or (2) request ADR. CampCo chose a PEC. CampCo and NRC conducted a PEC on August 31, 2015.

On December 10, 2015, the NRC issued a Notice of Violation (NOV) and proposed $28,000 civil penalty to CampCo. In the letter transmitting the NOV and proposed civil penalty, the NRC offered CampCo the choice to: (1) Pay the proposed civil penalty and respond in writing to two of the four violations, within 30 days of the date of the letter; or (2) request ADR. CampCo chose ADR.

The NRC determined CampCo actions regarding the first two violations identified in the NOV to be willful. The finding of willfulness in this case was not based on a finding that CampCo deliberately intended to violate NRC requirements, but rather on CampCo's careless disregard in failing to pursue necessary actions to ensure CampCo's compliance.

For all four violations identified in the NOV, the NRC considered whether corrective actions were taken to restore and maintain compliance. CampCo's corrective actions included submitting an application and receiving NRC license approval for exempt-distribution of the subject timepieces and submitting annual reports identified by NRC. Based on its assessment of CampCo's corrective actions, the NRC determined that CampCo took adequate corrective action for Violations 1 and 2. However, for Violations 3 and 4, corrective actions were not adequate. Since there was not sufficient information regarding the corrective actions for Violations 3 and 4, CampCo was required to respond to the NOV for Violations 3 and 4 in order to address corrective actions.

In response to the NRC's December 10, 2015, letter and NOV, CampCo requested ADR. On March 22, 2016, CampCo and the NRC met in an ADR session mediated by a professional mediator, arranged through Cornell University's Institute on Conflict Resolution. The ADR process is one in which a neutral mediator, with no decision-making authority, assists the parties in reaching an agreement on resolving any differences regarding the dispute. This Confirmatory Order is issued pursuant to the agreement reached during the ADR process.

III

During the ADR session, CampCo and the NRC reached a preliminary settlement agreement. The elements of the agreement included corrective actions that CampCo stated were completed as described below and agreed to future actions as follows:

Completed Corrective Actions

1. CampCo submitted an application and received an NRC license approval for exempt distribution of the subject timepieces.

2. CampCo provided annual reports to NRC for calendar years 2010 through 2015 and on February 4, 2016, provided an updated annual report for calendar year 2015 that contained all the information specified by the requirements.

Future CampCo Actions

Communications

1. The President of CampCo will submit an article via social media outlets (e.g., Facebook, Twitter) to consumers of tritium watches.

a. Within 6 months, the President of CampCo will submit a draft of the article to NRC for review and approval.

b. The article will summarize the existence of NRC and Agreement State requirements for watches containing tritium, emphasize the importance of compliance with NRC and Agreement State requirements, and raise awareness of a potential consumer safety hazard for non-compliant watches.

c. Within 15 calendar days of receipt, NRC will approve or provide comments to CampCo.

d. CampCo will incorporate any NRC comments.

e. For further iterations, CampCo will provide updated versions and NRC will provide comments or approval within 15 calendar days of receipt.

f. Within 15 calendar days of NRC approval, CampCo will circulate the article via social media outlets (e.g., Facebook, Twitter) to consumers of tritium watches.

2. The President of CampCo will send written notification to watch manufacturers and assemblers in China, and other international locations as identified by CampCo.

a. Within 6 months, the President of CampCo will submit a draft of the notification to NRC for review and approval, and will submit to NRC a list of proposed recipients.

b. The notification will summarize the violations issued to CampCo, the existence of NRC requirements for watches containing tritium, the existence of an Agreement State program, and the importance of compliance with NRC and Agreement State requirements.

c. Within 15 calendar days of receipt, NRC will approve or provide comments on the notification to CampCo.

d. CampCo will incorporate any NRC comments.

e. For further iterations, CampCo will provide updated versions and NRC will provide comments or approval within 15 calendar days of receipt.

f. Within 15 calendar days of NRC approval, CampCo will send written notification to watch manufacturers and assemblers in China, and other international locations as identified by CampCo.

3. The President of CampCo will submit an article for industry publication.

a. Within 1 year, the President of CampCo will submit a draft of the article to NRC for review and approval, and will submit to NRC a list of proposed recipients.

b. The article will summarize the existence of NRC and Agreement State requirements for watches containing tritium and emphasize the importance of compliance with NRC and Agreement State requirements.

c. Within 15 calendar days of receipt, NRC will approve or provide comments on the article to CampCo.

d. CampCo will incorporate any NRC comments.

e. For further iterations, CampCo will provide updated versions and NRC will provide comments or approval within 15 calendar days of receipt.

f. Within 15 calendar days of NRC approval, CampCo will submit an article for industry publication.

Training

4. Within 60 calendar days, the President of CampCo will hold meetings with key employees to outline the NRC requirements, and to emphasize and reinforce NRC and Agreement State compliance expectations.

a. Key employees will include those employees who are responsible for the sale and distribution of tritium watches and compliance with the requirements (e.g., management, purchasing, sales and marketing, and logistics).

b. CampCo will maintain written documentation of attendance demonstrating that each key employee has attended.

5. Within 60 calendar days, the President of CampCo will hold meetings company-wide regarding general awareness of requirements and reinforcing NRC and Agreement State compliance expectations. CampCo will maintain written documentation of attendance, demonstrating that all employees have attended a meeting.

6. CampCo will engage a third party independent consultant to provide initial training to key employees on NRC compliance responsibilities for exempt distribution licenses, as well as the specific requirements and obligations associated with CampCo's NRC license.

a. Key employees will include those employees who are responsible for the sale and distribution of tritium watches and compliance with the requirements (e.g., management, purchasing, sales and marketing, and logistics).

b. Within 9 months, CampCo will submit a draft of the training content to NRC for review and approval.

c. The training will address NRC compliance responsibilities for exempt distribution licenses per the regulations, the specific requirements and obligations associated with CampCo's NRC license, importance of compliance with NRC and Agreement State requirements, and any applicable CampCo procedures.

d. Within 30 calendar days of receipt, NRC will approve or provide comments on the draft of the training content related to NRC licensed activities to CampCo.

e. CampCo will incorporate any NRC comments.

f. For further iterations, CampCo will provide updated versions and NRC will provide comments or approval within 15 calendar days of receipt.

g. Within 90 calendar days of NRC approval, CampCo will complete the training for key employees.

h. CampCo will maintain written documentation of attendance demonstrating that each key employee has received training.

7. CampCo will provide annual refresher training for key employees on NRC compliance responsibilities for exempt distribution licenses, as well as the specific requirements and obligations associated with CampCo's NRC license.

a. This training will be based on the initial training provided by the consultant, and will incorporate any changes in the regulations and/or license that occur after approval of the initial training.

b. This may be accomplished as a read-and-sign.

c. CampCo will maintain written documentation of completion.

8. CampCo will provide initial training for new key employees on NRC compliance responsibilities for exempt distribution licenses, as well as the specific requirements and obligations associated with CampCo's NRC license.

a. This training will be based on the initial training provided by the consultant, and will incorporate any changes in the regulations and/or license that occur after approval of the initial training.

b. This may be accomplished as a read-and-sign.

c. CampCo will maintain written documentation of completion.

Work Processes

9. Within 6 months, CampCo will engage an independent third party consultant to review CampCo processes, provide a written assessment and make any written recommendations for maintaining and improving compliance.

10. CampCo will engage an independent third-party consultant to conduct annual compliance audits prior to the submittal of the required annual reports for the 2017 and 2018 calendar years.

11. Within 9 months, CampCo will develop written procedures and/or checklists identifying NRC compliance responsibilities for exempt distribution licenses per the regulations, as well as the specific requirements and obligations associated with CampCo's NRC license. These written procedures and/or checklists will include, but not be limited to, the process to be followed should there be a change in sources or watches to be distributed by CampCo, as well as the timing and content of annual reports.

12. Within 9 months, CampCo will specify in Purchase Orders NRC and Agreement State requirements and mandate that suppliers provide necessary information required to meet CampCo's license conditions in a timely manner, including the manufacturer(s) and model number(s) of the source(s) in the watches.

Corrective Actions

13. Within 90 calendar days, CampCo will provide updated annual reports to NRC for calendar years 2010 through 2014, using the updated annual report for calendar year 2015, submitted on February 4, 2016, as the template.

General

14. The finding of willfulness in this case was not based on a finding that CampCo deliberately intended to violate NRC requirements, but rather on CampCo's careless disregard in failing to pursue necessary actions to ensure CampCo's compliance.

15. The NRC agrees not to pursue any further enforcement action in connection with the NRC's December 10, 2015, letter to CampCo.

16. The Confirmatory Order will constitute escalated enforcement action.

17. In the event of the transfer of the possession and/or distribution licenses of CampCo, Inc. to another entity, the terms and conditions set forth hereunder shall continue to apply to the new entity and accordingly survive any transfer of ownership or license.

18. Unless otherwise specified, all dates are from the date of issuance of the Confirmatory Order.

19. In consideration of the commitments delineated above, the NRC agrees to refrain from imposing a civil penalty.

20. Unless otherwise specified, all documents required to be submitted to the NRC will be sent to: Director, Office of Enforcement, U.S. Nuclear Regulatory Commission, One White Flint North, 11555 Rockville Pike, Rockville, MD 20852-2738, with copies to the Director Material Safety, State, Tribal, and Rulemaking Programs (MSTR), Two White Flint North, 11545 Rockville Pike, Rockville, MD 20852-2738, and to the Branch Chief Materials Safety Licensing Branch, MSTR, Two White Flint North, 11545 Rockville Pike, Rockville, MD 20852-2738. CampCo will also endeavor to provide courtesy electronic copies to the above individuals.

On June 6, 2016, CampCo consented to issuing this Confirmatory Order with the commitments, as described in Section V below. CampCo further agreed that this Confirmatory Order is to be effective upon issuance, the agreement memorialized in this Confirmatory Order settles the matter between the parties, and that it has waived its right to a hearing.

IV

I find that the CampCo actions completed, as described in Section III above, combined with the commitments as set forth in Section V are acceptable and necessary, and conclude that with these commitments the public health and safety are reasonably assured. In view of the foregoing, I have determined that public health and safety require that CampCo's commitments be confirmed by this Confirmatory Order. Based on the above and CampCo's consent, this Confirmatory Order is effective upon issuance.

V

Accordingly, pursuant to Sections 81, 161b, 161i, 161o, 182 and 186 of the Atomic Energy Act of 1954, as amended, and the Commission's regulations in 10 CFR 2.202 and 10 CFR part 30, IT IS HEREBY ORDERED, EFFECTIVE UPON ISSUANCE, THAT LICENSE NO. 04-23910-01E IS MODIFIED AS FOLLOWS:

Communications

1. The President of CampCo will submit an article via social media outlets (e.g., Facebook, Twitter) to consumers of tritium watches.

a. Within 6 months, the President of CampCo will submit a draft of the article to NRC for review and approval.

b. The article will summarize the existence of NRC and Agreement State requirements for watches containing tritium, emphasize the importance of compliance with NRC and Agreement State requirements, and raise awareness of a potential consumer safety hazard for non-compliant watches.

c. Within 15 calendar days of receipt, NRC will approve or provide comments to CampCo.

d. CampCo will incorporate any NRC comments.

e. CampCo will provide updated versions of the article to NRC for review and approval prior to CampCo submittal for publication.

f. Within 15 calendar days of NRC approval, CampCo will circulate the article via social media outlets (e.g., Facebook, Twitter) to consumers of tritium watches.

2. The President of CampCo will send written notification to watch manufacturers and assemblers in China, and other international locations as identified by CampCo.

a. Within 6 months, the President of CampCo will submit a draft of the notification to NRC for review and approval, and will submit to NRC a list of proposed recipients.

b. The notification will summarize the violations issued to CampCo, the existence of NRC requirements for watches containing tritium, the existence of an Agreement State program, and the importance of compliance with NRC and Agreement State requirements.

c. CampCo will incorporate any NRC comments.

d. CampCo will provide updated versions of the article to NRC for review and approval prior to CampCo submittal for publication.

e. Within 15 calendar days of NRC approval, CampCo will send written notification to watch manufacturers and assemblers in China, and other international locations as identified by CampCo.

3. The President of CampCo will submit an article for industry publication.

a. Within 1 year, the President of CampCo will submit a draft of the article to NRC for review and approval, and will submit to NRC a list of proposed recipients.

b. The article will summarize the existence of NRC and Agreement State requirements for watches containing tritium and emphasize the importance of compliance with NRC and Agreement State requirements.

c. CampCo will incorporate any NRC comments.

d. CampCo will provide updated versions and NRC will provide comments or approval within 15 calendar days of receipt.

e. Within 15 calendar days of NRC approval, CampCo will submit an article for industry publication.

Training

4. Within 60 calendar days, the President of CampCo will hold meetings with key employees to outline the NRC requirements, and to emphasize and reinforce NRC and Agreement State compliance expectations.

a. Key employees will include those employees who are responsible for the sale and distribution of tritium watches and compliance with the requirements (e.g., management, purchasing, sales and marketing, and logistics).

b. CampCo will maintain written documentation of attendance demonstrating that each key employee has attended.

5. Within 60 calendar days, the President of CampCo will hold meetings company-wide regarding general awareness of requirements and reinforcing NRC and Agreement State compliance expectations. CampCo will maintain written documentation of attendance, demonstrating that all employees have attended a meeting.

6. CampCo will engage a third party independent consultant to provide initial training to key employees on NRC compliance responsibilities for exempt distribution licenses, as well as the specific requirements and obligations associated with CampCo's NRC license.

a. Key employees will include those employees who are responsible for the sale and distribution of tritium watches and compliance with the requirements (e.g., management, purchasing, sales and marketing, and logistics).

b. Within 9 months, CampCo will submit a draft of the training content to NRC for review and approval.

c. The training will address NRC compliance responsibilities for exempt distribution licenses per the regulations, the specific requirements and obligations associated with CampCo's NRC license, importance of compliance with NRC and Agreement State requirements, and any applicable CampCo procedures.

d. CampCo will incorporate any NRC comments.

e. CampCo will provide updated versions and NRC will provide comments or approval within 15 calendar days of receipt.

f. Within 90 calendar days of NRC approval, CampCo will complete the training for key employees.

g. CampCo will maintain written documentation of attendance demonstrating that each key employee has received training.

7. CampCo will provide annual refresher training for key employees on NRC compliance responsibilities for exempt distribution licenses, as well as the specific requirements and obligations associated with CampCo's NRC license.

a. This training will be based on the initial training provided by the consultant, and will incorporate any changes in the regulations and/or license that occur after approval of the initial training.

b. This may be accomplished as a read-and-sign training document.

c. CampCo will maintain written documentation of completion.

8. CampCo will provide initial training for new key employees on NRC compliance responsibilities for exempt distribution licenses, as well as the specific requirements and obligations associated with CampCo's NRC license.

a. This training will be based on the initial training provided by the consultant, and will incorporate any changes in the regulations and/or license that occur after approval of the initial training.

b. This may be accomplished as a read-and-sign training document.

c. CampCo will maintain written documentation of completion.

Work Processes

9. Within 6 months, CampCo will engage an independent third party consultant to review CampCo processes, provide a written assessment and make any written recommendations for maintaining and improving compliance.

10. CampCo will engage an independent third-party consultant to conduct annual compliance audits prior to the submittal of the required annual reports for the 2017 and 2018 calendar years.

11. Within 9 months, CampCo will develop written procedures and/or checklists identifying NRC compliance responsibilities for exempt distribution licenses per the regulations, as well as the specific requirements and obligations associated with CampCo's NRC license. These written procedures and/or checklists will include, but not be limited to, the process to be followed should there be a change in sources or watches to be distributed by CampCo, as well as the timing and content of annual reports.

12. Within 9 months, CampCo will specify in Purchase Orders NRC and Agreement State requirements and mandate that suppliers provide necessary information required to meet CampCo's license conditions in a timely manner, including the manufacturer(s) and model number(s) of the source(s) in the watches.

Corrective Actions

13. Within 90 calendar days, CampCo will provide updated annual reports to NRC for calendar years 2010 through 2014, using the calendar year 2015 updated annual report as provided to the NRC on February 4, 2015, as the template for content and format of the reports. Future annual reports will use the 2015 annual report as template, with adjustments to this template as needed to comply with any future changes to NRC requirements.

In the event of the transfer of the possession and/or distribution licenses of CampCo, Inc. to another entity, the terms and conditions set forth hereunder shall continue to apply to the new entity and accordingly survive any transfer of ownership or license.

Unless otherwise specified, all dates are from the date of issuance of the Confirmatory Order.

Unless otherwise specified, all documents required to be submitted to the NRC will be sent to: Director, Office of Enforcement, U.S. Nuclear Regulatory Commission, One White Flint North, 11555 Rockville Pike, Rockville, MD 20852-2738, with copies to the Director Material Safety, State, Tribal, and Rulemaking Programs (MSTR), Two White Flint North, 11545 Rockville Pike, Rockville, MD 20852-2738, and to the Branch Chief Materials Safety Licensing Branch, MSTR, Two White Flint North, 11545 Rockville Pike, Rockville, MD 20852-2738. CampCo will also endeavor to provide courtesy electronic copies to the above individuals.

The Director, Office of Enforcement, may, in writing, relax or rescind any of the above conditions upon demonstration by CampCo or its successors of good cause.

VI

In accordance with 10 CFR 2.202 and 2.309, any person adversely affected by this Confirmatory Order, other than CampCo, may request a hearing within 30 days of the issuance date of this Confirmatory Order. Where good cause is shown, consideration will be given to extending the time to request a hearing. A request for extension of time must be directed to the Director, Office of Enforcement, NRC, and include a statement of good cause for the extension.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007, as amended by 77 FR 46562; August 3, 2012), codified in pertinent part at 10 CFR part 2, subpart C. The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange (EIE) System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene through the EIE System. Submissions should be in Portable Document Format in accordance with NRC guidance available on the NRC's public Web site at http://www.nrc.gov/site-help/e-submittals.html. A filing is considered complete at the time the documents are submitted through the NRC's E-Filing system. To be timely, an electronic filing must be submitted to the E-Filing system no later than 11:59 p.m. Eastern Time (ET) on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, any others who wish to participate in the proceeding (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's Web site at http://www.nrc.gov/site-help/e-submittals.html, by email to MSHD.Resource@nrc.gov, or by a toll-free call at 1-866-672-7640. The NRC Meta System Help Desk is available between 8:00 a.m. and 8:00 p.m., ET, Monday through Friday, excluding government holidays.

Participants who believe that they have a good cause for not submitting documents electronically must, in accordance with 10 CFR 2.302(g), file an exemption request with their initial paper filing showing good cause as to why they cannot file electronically and requesting authorization to continue to submit documents in paper format. Such filings must be submitted by: (1) First-class mail addressed to the Office of the Secretary of the Commission, U.S. Nuclear Regulatory Commission, Washington, DC 20555-0001, Attention: Rulemaking and Adjudications Staff; or (2) courier, express mail, or expedited delivery service to the Office of the Secretary, 16th Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket, which is available to the public at http://edh1.nrc.gov/ehd/, unless excluded pursuant to an order of the Commission or the presiding officer. Participants are requested not to include personal privacy information, such as social security numbers, home addresses, or home phone numbers in their filings, unless an NRC regulation or other law requires submission of such information. With respect to copyrighted works, participants are requested not to include copyrighted materials in their submission, except for limited excerpts that serve the purpose of the adjudicatory filings and would constitute a Fair Use application, participants are requested not to include copyrighted materials in their submission.

If a person other than CampCo requests a hearing, that person shall set forth with particularity the manner in which his interest is adversely affected by this Confirmatory Order and shall address the criteria set forth in 10 CFR 2.309(d) and (f).

If a hearing is requested by a person whose interest is adversely affected, the Commission will issue a separate Order designating the time and place of any hearings, as appropriate. If a hearing is held, the issue to be considered at such hearing shall be whether this Confirmatory Order should be sustained.

In the absence of any request for hearing, or written approval of an extension of time in which to request a hearing, the provisions specified in Section V above shall be final 30 days after issuance of the Confirmatory Order without further order or proceedings. If an extension of time for requesting a hearing has been approved, the provisions specified in Section V shall be final when the extension expires if a hearing request has not been received.

Dated at Rockville, Maryland, this 20th day of June, 2016.

For the Nuclear Regulatory Commission,

Patricia K. Holahan,

Director, Office of Enforcement.

cc: State of California

[FR Doc. 2016-15143 Filed 6-24-16; 8:45 am]

BILLING CODE 7590-01-P